DEPARTMENT OF HOMELAND SECURITY

Coast Guard

33 CFR Part 165

[CGD01-04-087]

RIN 1625-AA00

Safety Zone; Bridge Demolition, Raritan River, Perth Amboy, NJ

AGENCY: Coast Guard, DHS.

ACTION: Temporary final rule.

SUMMARY: The Coast Guard is establishing a temporary safety zone for a bridge demolition on the Raritan River. The safety zone is necessary to protect the life and property of the maritime public from the hazards posed by this bridge demolition. Entry into or movement within the safety zone during the enforcement period is prohibited unless authorized by the Captain of the Port (COTP), New York.

DATES: This rule is effective from 5 a.m. on, July 7, 2004, to 8 p.m. on September 30, 2004.

ADDRESSES: Documents indicated in this preamble as being available in the docket are part of docket CGD01-04-087 and are available for inspection or copying at Waterways Oversight Branch, Coast Guard Activities New York, 212 Coast Guard Drive, room 203, Staten Island, NY 10305 between 8 a.m. and 3 p.m., Monday through Friday, except Federal holidays.

FOR FURTHER INFORMATION CONTACT: Lieutenant Commander W. Morton, Waterways Oversight Branch, Coast Guard Activities New York (718) 354-4191.

SUPPLEMENTARY INFORMATION:

Regulatory Information

We did not publish a notice of proposed rulemaking (NPRM) for this regulation. Under 5 U.S.C. 553(b)(3), the Coast Guard finds that good cause exists for not publishing an NPRM. Due to the late notification of the dates of this bridge demolition using explosives, publishing an NPRM would be impracticable. Publishing an NPRM would be contrary to the public interest because immediate action is needed to protect mariners from the hazards associated with this bridge demolition. Publishing an NPRM would also be unnecessary since the Raritan River safety zone will have minimal impact on the waterway for the following reasons: the New Jersey Department of Transportation (NJDOT) has been in contact with facilities upstream from the bridge during the construction of the adjacent, new, Route 35 bridge, who are well aware of the construction project and the expected delays associated with demolition of the old Route 35 bridge, the zone is only expected to be enforced for 1 hour during the seven planned blasts. Additionally, vessels will not be precluded from mooring at or getting underway from recreational piers in the vicinity of the zone.

For the same reasons, the Coast Guard further finds that good cause exists for making this rule effective less than 30 days after publication in the Federal Register pursuant to 5 U.S.C. 553(d)(3).

Background and Purpose

This rule is necessary to protect the life and property of the maritime public from the hazards posed from the Route 35 bridge demolition using explosives. The safety zone will be enforced for 1 hour during seven planned blasts. However, vessels may be given permission to transit the zone once the blasting has been completed for the day. Additionally, vessels will not be precluded from mooring at or getting underway from recreational piers in the immediate area outside the zone.

Discussion of Rule

This rule establishes a temporary safety zone in all waters of the Raritan River within 500 yards of the old Route 35 Bridge. The safety zone will be enforced for 1 hour during seven separate blasts planned between July 7, and September 30, 2004. However, vessels may be given permission to transit the zone once the blasting has been completed for the day. The safety zone will prevent vessels from transiting this portion of the Raritan River and is needed to protect the maritime public from the hazards associated with this bridge demolition using explosives. Vessels will not be precluded from mooring at or getting underway from recreational piers in the vicinity of the zone. Public notifications will be made prior to the event via the Local Notice to Mariners and Marine Information Broadcasts.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

This finding is based on: the minimal time that vessels will be restricted from the zone; the NJDOT has been in contact with facilities upstream from the bridge during the construction of the adjacent, new Route 35 Bridge, who are aware of the construction project and the expected delays associated with demolition of the old Route 35 Bridge, the zone is only expected to be enforced for 1 hour during seven planned blasts. Additionally, vessels will not be precluded from mooring at or getting underway from recreational piers in the vicinity of the zone. Advance notifications will be made to the local maritime community by the Local Notice to Mariners and marine information broadcasts.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which might be small entities: the owners or operators of vessels intending to transit or anchor in a portion of the affected waterway during the time this zone is enforced.

This safety zone will not have a significant economic impact on a substantial number of small entities for reasons enumerated under the “Regulatory Evaluation” section.

Assistance for Small Entities

Under section 213(a) of the Small Business Regulatory Enforcement Fairness Act of 1996 (Public Law 104-121), we want to assist small entities in understanding this temporary rule so that we can better evaluate its effects on them and participate in the rulemaking. If the rule will affect your small business, organization, or governmental jurisdiction and you have questions concerning its provisions or options for compliance, please contact Lieutenant Commander W. Morton, Waterways Oversight Branch, Coast Guard Activities New York at (718) 354-4191.

Small businesses may send comments on the actions of Federal employees who enforce, or otherwise determine compliance with, Federal regulations to the Small Business and Agriculture Regulatory Enforcement Ombudsman and the Regional Small Business Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have considered the environmental impact of this rule and concluded that under figure 2-1, paragraph 34(g), of Commandant Instruction M16475.lD, this rule is categorically excluded from further environmental documentation. This rule fits paragraph 34(g) as it establishes an emergency safety zone. A “Categorical Exclusion Determination” will be available in the docket for inspection or copying where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191; 195; 33 CFR 1.05-1(g), 6.04-1, 6.04-6, and 160.5; Pub. L. 107-295, 116 Stat 2064; Department of Homeland Security Delegation No. 0170.1.

2. From 5 a.m. on July 7, 2004, until 8 p.m. on September 30, 2004, add temporary § 165.T01-087 to read as follows:

§ 165.T01-087 Safety Zone; Bridge Demolition, Raritan River, Perth Amboy, NJ.

(a) Regulated area. The following area is a safety zone: All waters of the Raritan River within 500 yards of the old Route 35 Bridge (river mile 1.6).

(b) Effective period. This section is effective from 5 a.m. on July 7, until 8 p.m. on September 30, 2004.

(c) Enforcement periods. This section will be enforced while explosives are being detonated during the demolition of the bridge. The Captain of the Port will notify the maritime community of enforcement periods via Local Notice to Mariners and Marine Information Broadcasts.

(d) Regulations. (1) The general regulations contained in 33 CFR 165.23 apply.

(2) All persons and vessels shall comply with the instructions of the Coast Guard Captain of the Port or the designated on-scene-patrol personnel. These personnel comprise commissioned, warrant, and petty officers of the Coast Guard. Upon being hailed by a U.S. Coast Guard vessel by siren, radio, flashing light, or other means, the operator of a vessel shall proceed as directed.

Dated: July 7, 2004.
C.E. Bone,
Captain, U.S. Coast Guard, Captain of the Port, New York.

[FR Doc. 04-16842 Filed 7-22-04; 8:45 am]

BILLING CODE 4910-15-P